DEPARTMENT OF DEFENSE

Office of the Secretary

[Transmittal No. 22-30]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, the Secretary of State Determination and Justification Transmittal, with attached Transmittal 22-30 and Policy Justification.

Dated: May 9, 2024.
Aaron T. Siegel,
Alternate OSD Federal Register Liaison Officer, Department of Defense.

BILLING CODE 6001-FR-P

BILLING CODE 6001-FR-C

Transmittal No. 22-30

Notice of Proposed Issuance of Letter of Offer Pursuant to Section 36(b)(1) of the Arms Export Control Act, as Amended

(i) Prospective Purchaser: Government of Ukraine.

(ii) Total Estimated Value:

Major Defense Equipment * | $ 0 million
Other | $165 million
TOTAL | $165 million

Funding Source: Foreign Military Financing

(iii) Description and Quantity or Quantities of Articles or Services under Consideration for Purchase:

Major Defense Equipment (MDE):

None

Non-MDE:

Various rounds of non-standard ammunition to include, but not limited to, the following: 152mm rounds for 2A36 Giatsint; 152mm rounds for D-20 cannons; VOG-17 for automatic grenade launcher AGS-17; 120mm mortar rounds (non-NATO); 122mm rounds for 2Sl Gvozdika; BM-21 GRAD Rockets; 300mm rounds/rockets for MLRS “Smerch;” VOG-25 grenades for under barrel grenade launcher GP-25; 82mm mortar rounds; 125mm HE ammunition for T-72; 152mm rounds for 2A65 Msta; transportation; and other related elements of logistical and program support.

(iv) Military Department: Army (UP-B-UCS)

(v) Prior Related Cases, if any: None

(vi) Sales Commission, Fee, etc., Paid, Offered, or Agreed to be Paid: None

(vii) Sensitivity of Technology Contained in the Defense Article or Defense Services Proposed to be Sold: None

(viii) Date Report Delivered to Congress: April 24, 2022

*As defined in Section 47(6) of the Arms Export Control Act.

POLICY JUSTIFICATION

Ukraine—Non-Standard Ammunition

The Government of Ukraine has requested to buy various rounds of non-standard ammunition to include, but not limited to, the following: 152mm rounds for 2A36 Giatsint; 152mm rounds for D-20 cannons; VOG-17 for automatic grenade launcher AGS-17; 120mm mortar rounds (non-NATO); 122mm rounds for 2Sl Gvozdika; BM-21 GRAD Rockets; 300mm rounds/rockets for MLRS “Smerch;” VOG-25 grenades for under barrel grenade launcher GP-25; 82mm mortar rounds; 125mm HE ammunition for T-72; 152mm rounds for 2A65 Msta; transportation; and other related elements of logistical and program support. The total estimated program cost is $165 million.

The Secretary of State has determined and provided detailed justification that an emergency exists that requires the immediate sale to Ukraine of the above defense articles (and defense services) in the national security interests of the United States, thereby waiving the Congressional review requirements under Section 36(b) of the Arms Export Control Act, as amended.

This proposed sale will support the foreign policy goals and national security objectives of the United States by improving the security of a partner country that is a force for political stability and economic progress in Europe.

The proposed sale will improve Ukraine's capability to meet current and future threats by maintaining the operational readiness of its forces. The provision of non-standard and legacy Warsaw Pact ammunition will enable the Armed Forces Ukraine to defend itself against ongoing threats and enhance national defense. Ukraine already has these items, or variants thereof, in its inventory and will have no difficulty absorbing this equipment into its armed forces.

The proposed sale of this equipment and support will not alter the basic military balance in the region.

The prime contractor(s) will be selected upon contract award.

Implementation of this proposed sale will not require the assignment of any additional U.S. Government or contractor representatives to Ukraine.

There will be no adverse impact on U.S. defense readiness as a result of this proposed sale.

[FR Doc. 2024-10608 Filed 5-15-24; 8:45 am]

BILLING CODE 6001-FR-P